DEPARTMENT OF TRANSPORTATION

Pipeline and Hazardous Materials Safety Administration

Hazardous Materials; Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 31, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on January 09, 2020.
Donald P. Burger,
Chief, General Approvals and Permits Branch.

Special Permits Data
Application No. | Applicant | Regulation(s) affected | Nature of the special permits thereof
14175-M | Praxair, Inc | 180.209(b)(1)(iii), 180.209(b)(1)(iv) | To modify the special permit to clarify what is a package and what is a packaging and to authorize a 10-year retest interval for individual DOT specification 3A or 3AA cylinders, not exceeding 125 pounds water capacity configured into bundles. (modes 1, 2, 3, 4).
14994-M | Auto Chlor System Ltd | 173.28(b)(4)(i) | To modify the special permit to authorize an additional hazardous material. (mode 1).
15279-M | University Of Colorado At Boulder, Ehs | 172.301(a), 172.301(b), 172.301(c), 173.196(a), 173.196(b), 178.609 | To modify the special permit to authorize new destinations due to lab increasing in size and moving. (mode 1).
16274-M | Matheson Tri-gas, Inc | 173.13(c)(2)(i), 173.13(c)(2)(ii), 173.13(c)(2)(iii) | To modify the special permit to clarify placarding requirements and ICAO Technical Instructions. (modes 1, 4).
20858-M | Cryoconcepts, Lp | 173.304a(a)(1), 173.306(a) | To modify the special permit to clarify the maximum fill density of compressed gas in the cylinders. (modes 1, 2, 3).

[FR Doc. 2020-00605 Filed 1-15-20; 8:45 am]

BILLING CODE 4909-60-P